DEPARTMENT OF HOMELAND SECURITY

Federal Emergency Management Agency

44 CFR Part 67

Final Flood Elevation Determinations

AGENCY: Federal Emergency Management Agency (FEMA), Department of Homeland Security.

ACTION: Final rule.

SUMMARY: Base (1% annual-chance) Flood Elevations and modified Base Flood Elevations (BFEs) are made final for the communities listed below. The BFEs and modified BFEs are the basis for the floodplain management measures that each community is required either to adopt or to show evidence of being already in effect in order to qualify or remain qualified for participation in the National Flood Insurance Program (NFIP).

DATES: Effective Date: The date of issuance of the Flood Insurance Rate Map (FIRM) showing BFEs and modified BFEs for each community. This date may be obtained by contacting the office where the FIRM is available for inspection as indicated in the table below.

ADDRESSES: The final base flood elevations for each community are available for inspection at the office of the Chief Executive Officer of each community. The respective addresses are listed in the table below.

FOR FURTHER INFORMATION CONTACT: Doug Bellomo, P.E., Hazard Identification Section, Federal Emergency Management Agency, 500 C Street, SW., Washington, DC 20472, (202) 646-2903.

SUPPLEMENTARY INFORMATION: The Federal Emergency Management Agency makes the final determinations listed below for the BFEs and modified BFEs for each community listed. These modified elevations have been published in newspapers of local circulation and ninety (90) days have elapsed since that publication. The Mitigation Division Director has resolved any appeals resulting from this notification.

This final rule is issued in accordance with section 110 of the Flood Disaster Protection Act of 1973, 42 U.S.C. 4105, and 44 CFR part 67.

The Federal Emergency Management Agency has developed criteria for floodplain management in floodprone areas in accordance with 44 CFR part 60.

Interested lessees and owners of real property are encouraged to review the proof Flood Insurance Study and FIRM available at the address cited below for each community.

The BFEs and modified BFEs are made final in the communities listed below. Elevations at selected locations in each community are shown.

National Environmental Policy Act

This rule is categorically excluded from the requirements of 44 CFR part 10, Environmental Consideration. No environmental impact assessment has been prepared.

Regulatory Flexibility Act

The Mitigation Division Director certifies that this rule is exempt from the requirements of the Regulatory Flexibility Act because modified base flood elevations are required by the Flood Disaster Protection Act of 1973, 42 U.S.C. 4105, and are required to establish and maintain community eligibility in the NFIP. No regulatory flexibility analysis has been prepared.

Regulatory Classification

This final rule is not a significant regulatory action under the criteria of section 3(f) of Executive Order 12866 of September 30, 1993, Regulatory Planning and Review, 58 FR 51735.

Executive Order 13132, Federalism

This rule involves no policies that have federalism implications under Executive Order 13132.

Executive Order 12988, Civil Justice Reform

This rule meets the applicable standards of Executive Order 12988.

List of Subjects in 44 CFR Part 67

Administrative practice and procedure, Flood insurance, Reporting and recordkeeping requirements.

Accordingly, 44 CFR part 67 is amended to read as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Source of flooding and location of referenced elevation | ◆Elevation in feet (NAVD) modified | Communities affected
Artichoke Creek:
At County Highway 27 | 1,085 | FEMA Docket No. P7693, Big Stone County (Unincorporated Areas).
Approximately 6,800 feet upstream of County Highway 27 | ◆1,085 |
Big Stone Lake:
Approximately 1,056 feet upstream of U.S. Highway 12 | ◆972 | Big Stone County (Unincorporated Areas), City of Ortonville.
At the confluence of the Little Minnesota River | ◆972 |
County Ditch No. 2:
At the confluence with Five Mile Creek | ◆1,002 | FEMA Docket No. P7693, Big Stone County (Unincorporated Areas).
Approximately 3,190 feet upstream of County Highway 81 | ◆1,115 |
County Ditch No. 4:
At the confluence with the Minnesota River Tailwaters | ◆950 | Big Stone County (Unincorporated Areas), City of Odessa.
Approximately 1,170 feet upstream of County Highway 21 | ◆961 |
County Ditch No. 4 Diversion Channel:
At the confluence with County Ditch No. 4 | ◆950 | Big Stone County (Unincorporated Areas), City of Odessa.
At the divergence from County Ditch No. 4. | ◆958 |
Fish Creek:
At the confluence with Big Stone Lake | ◆972 | Big Stone County (Unincorporated Areas).
Approximately 3,550 feet upstream of State Highway 28 | ◆1,108 |
Five Mile Creek:
At the confluence with Marsh Lake | ◆948 | Big Stone County (Unincorporated Areas).
At the confluence of County Ditch No. 2 | ◆1,002 |
Golf Lake:
Entire shoreline | ◆1,095 | Big Stone County (Unincorporated Areas), City of Graceville.
Lannon Lake:
Entire shoreline | ◆1,097 | Big Stone County (Unincorporated Areas), City of Graceville.
Little Minnesota River:
At the confluence with Big Stone Lake | ◆972 | FEMA Docket No. P7693, Big Stone County (Unincorporated Areas).
Approximately 680 feet upstream of northeastern county boundary | ◆972
Meadow Brook:
At the confluence with Big Stone Lake | ◆972 | Big Stone County (Unincorporated Areas).
Approximately 830 feet upstream of County Highway 6 | ◆1,143
Minnesota River:
Approximately 1.8 miles downstream of the confluence with Five Mile Creek | ◆948 | Big Stone County (Unincorporated Areas), City of Odessa, City of Ortonville.
At the confluence of the Little Minnesota River: | ◆972
Minnesota River Tailwaters:
At the confluence with the Minnesota River | ◆949 | Big Stone County (Unincorporated Areas).
Approximately 430 feet upstream of U.S. Highway 75 | ◆950
Stony Run:
At the confluence with the Minnesota River | ◆959 | Big Stone County (Unincorporated Areas), City of Odessa.
Approximately 20,520 feet upstream of U.S. Highway 75/State Highway 7 | ◆1,107
Unnamed Tributary:
At the confluence with Big Stone Lake | ◆972 | Big Stone County (Unincorporated Areas).
Unnamed Tributary:
Approximately 18,030 feet upstream of State Highway 7 | ◆1,056 | FEMA Docket No. P7693, Big Stone County (Unincorporated Areas).
West Toqua Lake:
Entire Shoreline | ◆1,089
ADDRESSES
Unincorporated Area of Big Stone County, Minnesota
Maps are available for inspection at the Planning and Zoning Office, 20 Southeast 2nd Street, Ortonville, Minnesota.
City of Graceville, Big Stone County, Minnesota
Maps are available for inspection at 415 Studart Avenue, Graceville, Minnesota.
City of Odessa, Big Stone County, Minnesota
Maps are available for inspection at 214 Bloomington Avenue South, Odesssa, Minnesota.
City of Ortonville, Big Stone County, Minnesota
Maps are available for inspection at the Ortonville City Office, 315 Madison Avenue, Ortonville, Minnesota.
Cobb Creek:
At the confluence with Florida Creek | ◆1,099 | FEMA Docket No. P7669, Lac Qui Parle (Unincorporated Areas).
Approximately 7,850 feet upstream of County Road 50 | ◆1,237
County Ditch No. 5:
At the confluence with West Branch Lac Qui Parle River | ◆1,096 | FEMA Docket No. P7669, Lac Qui Parle (Unincorporated Areas).
At the western county boundary | ◆1,140
Florida Creek:
At the confluence with West Branch Lac Qui Parle River | ◆1,094 | Lac Qui Parle (Unincorporated Areas).
Approximately 2,300 feet upstream of the southern county boundary | ◆1,181
Florida Creek Tributary:
At the confluence with Florida Creek | ◆1,137 | Lac Qui Parle (Unincorporated Areas).
At the southern county boundary | ◆1,208
Judicial Ditch No. 4:
At the confluence with West Branch Lac Qui Parle River | ◆1,045 | City of Dawson, Lac Qui Parle (Unincorporated Areas).
Just upstream of Ninth Street | ◆1,045
Lac Qui Parle River:
Approximately 350 feet downstream of County Road 20 | ◆963 | City of Dawson, Lac Qui Parle (Unincorporated Areas).
At the southern county boundary | ◆1,093
Lazarus Creek:
Approximately 9,660 feet downstream of U.S. Interstate 75 | ◆1,105 | Lac Qui Parle (Unincorporated Areas).
Approximately 12,100 feet upstream of County Road 52 (2nd crossing) | ◆1,135
Lost Creek:
At the confluence with West Branch Lac Qui Parle River | ◆1,111 | FEMA Docket No. P7669, Lac Qui Parle (Unincorporated Areas).
At the western county boundary | ◆1,193
Minnesota River:
Approximately 7.4 miles downstream of County Road 18 | ◆934 | Lac Qui Parle (Unincorporated Areas).
Approximately 6.9 miles upstream of County Road 15 | ◆962
Minnesota River Tailwaters:
At the confluence with Minnesota River | ◆949 | Lac Qui Parle (Unincorporated Areas).
Approximately 430 feet upstream of U.S. Interstate 75 | ◆950
North Fork Yellow Bank River:
At the confluence with Main Fork Yellow Bank River | ◆1,002 | Lac Qui Parle (Unincorporated Areas).
At the western county boundary | ◆1,036
Tenmile Creek:
Approximately 1,800 feet downstream of County Road 2 | ◆1,046 | City of Boyd, Lac Qui Parle (Unincorporated Areas).
Approximately 9,100 feet upstream of County Road 29 | ◆1,056
Tributary to South Fork Yellow Bank River:
At the confluence with South Fork Yellow Bank River | ◆1,089 | City of Nassau, Lac Qui Parle (Unincorporated Areas).
At the western county boundary | ◆1,113
West Branch Lac Qui Parle River:
At the confluence with Lac Qui Parle River | ◆1,041 | FEMA Docket No. P7669, City of Dawson, Lac Qui Parle (Unincorporated Areas).
Just upstream of County Road 7 | ◆1,192 |
Yellow Bank River (Main and South Forks):
Approximately 100 feet downstream of County Road 40 | ◆971 | Lac Qui Parle (Unincorporated Areas).
Approximately 14,450 feet upstream of County Road 7 | ◆1,123 |
ADDRESSES
City of Boyd, Lac Qui Parle County, Minnesota
Maps are available for inspection at City Hall, 117 Third Street, Boyd, Minnesota.
City of Dawson, Lac Qui Parle County, Minnesota
Maps are available for inspection at City Hall, 675 Chestnut Street, Dawson, Minnesota.
City of Nassau, Lac Qui Parle County, Minnesota
Maps are available for inspection at City Hall, 229 Fifth Street, Nassau, Minnesota.
Unincorporated Areas of Lac Qui Parle County, Minnesota
Maps are available for inspection at County Courthouse, 600 West Sixth Street, Madison, Minnesota.
Alexander Creek:
Approximately 8,025 feet upstream of Ward Road | ◆942 | FEMA Docket No. P7691, Cass County (Unincorporated Areas), City of Raymore.
Approximately 5,600 feet upstream of Prairie Road | ◆1,004 |
East Branch South Grand River:
Approximately 9,900 feet upstream of confluence of Wolf Creek | ◆886 | Cass County, (Unincorporated Areas), City of Peculiar.
Approximately 510 feet upstream of Kendall Road | ◆954 |
East Branch of West Fork East Creek:
At confluence with West Fork East Creek | ◆974 | Cass County (Unincorporated Areas), City of Belton.
Approximately 3,050 feet upstream of confluence with West Fork East Creek | ◆990 |
East Creek Tributary:
Approximately 990 feet downstream of Pickering Road | ◆918 | Cass County (Unincorporated Areas), City of Raymore.
Approximately 10,000 feet upstream of confluence of North Fork Eat Creek Tributary | ◆1,000 |
East Fork of East Tributary of East Branch South Grand River:
At confluence with East Tributary of East Branch South Grand River | ◆937 | Cass County (Unincorporated Areas).
Approximately 3,250 feet upstream of 200th Street | ◆1,007 |
East Tributary of East Branch South Grand River:
At confluence with East Branch South Grand River | ◆889 | FEMA Docket No. P7691, Cass County (Unincorporated Areas).
Approximately 2,920 feet upstream of Prairie Road | ◆993
East Tributary of Lumpkins Fork:
Approximately 4,770 feet downstream of North Madison Street | ◆954 | City of Raymore.
Approximately 40 feet upstream of 155th Street | ◆999
East Tributary of Massey Creek:
Approximately 3,225 feet downstream of Missouri Highway D | ◆944 | Cass County (Unincorporated Areas).
Approximately 85 feet upstream of Cedar Road | ◆997
Lower East Fork of East Creek Tributary:
At confluence with East Creek Tributary | ◆931 | Cass County (Unincorporated Areas), City of Raymore.
Approximately 12,800 feet upstream of U.S. Highway 71 | ◆987
Lower East Tributary of Mill Creek:
At confluence with Mill Creek | ◆885 | Cass County (Unincorporated Areas), Village of Loch Lloyd.
Approximately 8,120 feet upstream of confluence with Mill Creek | ◆937
Lumpkins Fork:
At 155th Street | ◆945 | FEMA Docket No. P7691, Cass County (Unincorporated Areas).
Approximately 70 feet upstream of North Madison Street | ◆979
Massey Creek:
Approximately 5,070 feet downstream of 223rd Street | ◆904 | Cass County (Unincorporated Areas).
At State Line Road | ◆969
Middle East Tributary of Mill Creek:
Approximately 3,950 feet upstream of confluence with Mill Creek | ◆912 | Cass County (Unincorporated Areas), Village of Loch Lloyd.
Approximately 6,320 feet upstream of confluence with Mill Creek | ◆940
Mill Creek:
At County Boundary | ◆871 | Cass County (Unincorporated Areas) Village of Loch Lloyd.
Approximately 95 feet downstream of 187th Street | ◆1,045
North Branch of Upper East Fork of East Creek Tributary:
Approximately 1,700 feet downstream of Hubach Hill Road | ◆976 | Cass County (Unincorporated Areas).
Approximately 25 feet upstream of Hubach Hill Road | ◆986
North Fork of East Creek Tributary:
At confluence with East Creek Tributary | ◆953 | FEMA Docket No. P7691, Cass County (Unincorporated Areas).
Approximately 11,000 feet upstream of confluence with East Creek Tributary | ◆990
North Tributary of Wolf Creek:
Approximately 410 feet downstream of East 233rd Street | ◆927 | Cass County (Unincorporated Areas), City of Peculiar.
Approximately 40 feet upstream of East 227th Street | ◆954
Poney Creek:
Approximately 4,925 feet downstream of Bennett Road | ◆831 | Cass County (Unincorporated Areas), City of Freeman.
Approximately 7,550 feet upstream of Poney Creek Road | ◆849
Silver Lake | ◆1,029 | City of Raymore.
South Grand River:
Approximately 5,160 feet downstream of State Highway 2 | ◆829 | Cass County (Unincorporated Areas).
Approximately 765 feet upstream of Lake Annette Road | ◆850
Tributary of Alexander Creek:
Approximately 1,500 feet downstream of State Highway 58 | ◆988 | Cass County (Unincorporated Areas), City of Raymore.
Approximately 85 feet upstream of State Highway 58 | ◆996
Upper East Fork of East Creek Tributary:
Approximately 2,685 feet downstream of Good Ranch Road | ◆947 | FEMA Docket No. P7691, Cass County (Unincorporated Areas), City of Raymore.
Approximately 50 feet upstream of Hubach Hill Road | ◆993
Upper East Tributary of Mill Creek:
At Highland Ridge Drive | ◆933 | Cass County (Unincorporated Areas), Village of Loch Lloyd.
Approximately 5,800 feet upstream of Highland Ridge Drive | ◆988
West Tributary of East Branch South River:
Approximately 2,095 feet downstream of East 223rd Street | ◆896 | Cass County (Unincorporated Areas).
Approximately 75 feet upstream of East 223rd Street | ◆915
West Tributary of Lumpkins Fork:
At 155th Street | 946 | Cass County (Unincorporated Areas).
Approximately 1,065 feet upstream of 155th Street | ◆998
Wolf Creek:
Approximately 7,100 feet upstream of confluence with East Branch South Grand River | ◆889 | Cass County (Unincorporated Areas), City of Peculiar, City of Peculiar.
Approximately 1,170 feet upstream of 233rd Street | ◆946
ADDRESSES
Unincorporated Areas of Cass County, Missouri
Maps are available for inspection at 102 East Wall Street, Harrisonville, Missouri.
City of Belton, Cass County, Missouri
Maps are available for inspection at City Hall, 506 Main Street, Belton, Missouri.
City of Freeman, Cass County, Missouri
Maps are available for inspection at City Hall, 105 East Main Street, Freeman, Missouri.
Village of Loch Lloyd, Cass County, Missouri
Maps are available for inspection at 16750 Country Club Drive, Loch Lloyd, Missouri.
City of Peculiar, Cass County, Missouri
Maps are available for inspection at City Hall, 600 Schug Avenue, Peculiar, Missouri.
City of Raymore, Cass County, Missouri.
Maps are available for inspection at City Hall, 104 North Madison Street, Raymore, Missouri.
Carter Branch:
Approximately 275 feet above confluence with Mill Race | ◆944 | FEMA Docket No. P7691, City of Carthage, Jasper County (Unincorporated Areas).
Approximately 5,030 feet upstream of East 13th Street | ◆1,020
City Branch:
Approximately 500 feet upstream of the confluence with Spring River | ◆936 | Jasper County (Unincorporated Areas).
Approximately 330 feet upstream of Case Street | ◆1,018 | City of Carthage.
ADDRESSES
Unincorporated Areas of Jasper County, Missouri
Maps are available for inspection at Tri-State Engineering, Inc., 1102 West 9th Street, Joplin, Missouri.
City of Carthage, Jasper County, Missouri
Maps are available for inspection at the Engineer's Office, 623 East 7th Street, Carthage, Missouri.
Heads Creek:
Approximately 3,400 feet upstream of the confluence with the Big River | ◆456 | FEMA Docket No. P7697, City of Byrnes Mill, Jefferson County (Unincorporated Areas).
Approximately 150 feet upstream of Heads Creek Road | ◆554
Saline Creek Tributary:
Approximately 150 feet upstream of the confluence with Saline Creek | ◆491 | Jefferson County (Unincorporated Areas).
Approximately 100 feet upstream of Schumacher Road | ◆703
Unnamed Tributary to Sandy Creek:
Approximately 1,200 feet upstream of the confluence with Sandy Creek | ◆413 | City of Pevely, Jefferson County (Unincorporated Areas).
Approximately 70 feet upstream of State Highway Z | ◆455
ADDRESSES
City of Byrnes Mill, Jefferson County, Missouri
Maps are available for inspection at City Hall, 127 Osage Executive Circle, Byrnes Mill, Missouri.
City of Pevely, Jefferson County, Missouri
Maps are available for inspection at 301 Main Street, Pevely, Missouri.
Unincorporated Areas of Jefferson County, Missouri
Maps are available for inspection at the Annex Building, 725 Maple, Hillsboro, Missouri.
North Fork Big Nemaha River:
Approximately 1.87 miles downstream of State Highway 50 | ◆1,097 | FEMA Docket No. P7697, City of Tecumseh, Johnson County (Unincorporated Areas).
North Fork Big Nemaha River:
Just downstream of the Burlington Northern Railroad (2nd Crossing) | ◆1,123
North Fork Big Nemaha River (Southwest Split Flow):
At the confluence with North Fork Big Nemaha River | ◆1,114
Approximately 4,520 feet upstream of U.S. Highway 136 | ◆1,123
Town Branch:
At confluence with North Fork Big Nemaha River | ◆1,111
Approximately 3,150 feet upstream of U.S. Highway 136 | ◆1,144
ADDRESSES
City of Tecumseh, Johnson County, Nebraska
Maps are available for inspection at City Hall, 122 South 4th Street, Tecumseh, Nebraska.
Unincorporated Areas of Johnson County, Nebraska
Maps are available for inspection at Johnson County Clerk's Office, 351 Broadway Street, Tecumseh, Nebraska.
Ohio River (Vicinity of the Village of Powhatan Point):
Approximately 1.4 miles downstream of the confluence of Captina Creek | ◆645 | FEMA Docket No. P7693, Village of Powhatan Point.
Approximately 0.17 mile upstream of the confluence of Captina Creek | ◆646
Ohio River (Vicinity of the Village of Shadyside): Approximately 0.15 mile upstream of the confluence of Wegee Creek | ◆653 | Village of Shadyside, Belmont County (Unincorporated Areas)
Approximately 0.37 mile upstream of the confluence of Wegee Creek | ◆653 |
Ohio River (Vicinity of the City of Martins Ferry):
Approximately 0.25 mile upstream of the Aetnaville Highway | ◆658 | City of Martins Ferry, Belmont County (Unincorporated Areas)
Approximately 0.12 mile upstream of the confluence of Glenn’s Run | ◆660 |
ADDRESSES
City of Martin s Ferry, Belmont County, Ohio
Maps are available for inspection at City Hall, 35 South 5th Street, Martins Ferry, Ohio.
Village of Powhatan Point, Belmont County, Ohio
Maps are available for inspection at Village Hall, 104 Mellott Street, Powhatan Point, Ohio.
Village of Shadyside, Belmont County, Ohio
Maps are available for inspection at Village Hall, 50 East 39th Street, Shadyside, Ohio.
Unincorporated Areas of Belmont County, Ohio
Maps are available for inspection at the Belmont County Courthouse, 101 Main Street, St. Clairesville, Ohio 43906.
Big Indian Creek:
Approximately 2,800 feet upstream of State Highway 756 | ◆506 | FEMA Docket No. P7691, Clermont County (Unincorporated Areas).
Approximately 50 feet upstream of State Highway 743 | ◆627
Bannon Creek:
Approximately 2,300 feet downstream of O'Bannonville Road | ◆606
Approximately 50 feet upstream of State Highway 132 | ◆791
Ohio River:
Approximately 0.8 mile downstream of the confluence of Pond Run | ◆504 | Clermont County (Unincorporated Areas), Village of Chilo, Village of Moscow, Village of Neville, Village of New Richmond.
Approximately 0.2 mile upstream of the confluence of Bullskin Creek | ◆509
ADDRESSES
Village of Chilo, Clermont County, Ohio
Maps are available for inspection at Permit Central, 2275 Bauer Road, Batavia, Ohio.
Unincorporated Areas of Clermont County, Ohio
Maps are available for inspection at Permit Central, 2275 Bauer Road, Batavia, Ohio.
Village of Moscow, Clermont County, Ohio
Maps are available for inspection at Permit Central, 2275 Bauer Road, Batavia, Ohio.
Village of Neville, Clermont County, Ohio
Maps are available for inspection at Permit Central, 2275 Bauer Road, Batavia, Ohio.
Village of New Richmond, Clermont County, Ohio
Maps are available for inspection at Permit Central, 2275 Bauer Road, Batavia, Ohio.
Ohio River:
Approximately 3.5 miles upstream of the confluence of Little Yellow Creek | ◆688 | FEMA Docket No. P7689, City of East Liverpool.
Approximately 6.3 miles upstream of the confluence of Little Yellow Creek | ◆690
ADDRESSES
City of East Liverpool, Columbiana County, Ohio
Maps are available for inspection at the Planning Department, 126 West Sixth Street, East Liverpool, Ohio.
Permars Run:
Approximately 40 feet downstream of Cliff Avenue | ◆708 | FEMA Docket No. P7693, Village of Steubenville, Jefferson County (Unincorporated Areas).
Approximately 8,095 feet upstream of Cliff Avenue | ◆892 |
ADDRESSES
Unincorporated Areas of Jefferson County, Ohio
Maps are available for inspection at the Jefferson County Regional Planning Commission, 500 Market Street, Room 614, Steubenville, Ohio.
City of Steubenville, Jefferson County, Ohio
Maps are available for inspection at 238 South Lake Erie, Steubenville, Ohio.
Ohio River:
Approximately 0.9 mile downstream of the confluence of Norman Run | ◆543 | FEMA Docket No. P7691, Village of Athalia, Village of Chesapeake, Village of Coal Grove, Village of Hanging Rock, City of Ironton, Village of Proctorville, Village of South Point, Lawrence County (Unincorporated Areas).
Approximately 1.0 mile downstream of the confluence of Federal Creek | ◆557
Symmes Creek:
At the confluence with the Ohio River | ◆553 | Village of Chesapeake, Lawrence County (Unincorporated Areas).
Approximately 2,400 feet downstream of the confluence of McKinney Creek | ◆553
Indian Guyan Creek:
Approximately 0.6 mile upstream of County Route 65 | ◆565 | FEMA Docket No. P7691, Lawrence County, (Unincorporated Areas).
Approximately 300 feet upstream of Township Road 126 | ◆576
ADDRESSES
Village of Chilo, Clermont County, Ohio
ADDRESSES
Village of Athalia, Lawrence County, Ohio
Maps are available for inspection at Community Map Repository, Village of Athalia, 14346 State Road 7, Proctorville, Ohio.
Village of Chesapeake, Lawrence County, Ohio
Maps are available for inspection at the Community Map Repository, Village of Chesapeake, Town Hall, 211 Third Avenue, Chesapeake, Ohio.
Village of Coal Grove, Lawrence County, Ohio
Maps are available for inspection at Community Map Repository, Village of Coal Grove, 513 Carlton Davidson Lane, Coal Grove, Ohio.
Village of Hanging Rock, Lawrence County, Ohio
Maps are available for inspection at the Community Map Repository, Village of Hanging Rock, 100 Scioto Avenue, Hanging Rock, Ohio.
City of Ironton, Lawrence County, Ohio
Maps are available for inspection at the Community Map Repository, City of Ironton, 301 South 3rd Street, Ironton, Ohio.
Unincorporated Areas of Lawrence County, Ohio
Maps are available for inspection at the Community Map Repository, Lawrence County Floodplain Management Program, 305 North Fifth Street, Ironton, Ohio.
Village of Proctorville, Lawrence County, Ohio.
Maps are available for inspection at the Community Map Repository, Village of Proctorville, Village Hall, 301 State Street, Proctorville, Ohio.
Village of South Point, Lawrence County, Ohio.
Maps are available for inspection at the Community Map Repository, Village of South Point, 408 Second Street West, South Point, Ohio.
Baughman Slough:
Approximately 415 feet upstream of the confluence with Peach Creek | ◆91 | FEMA Docket No. P7691, City of Wharton, Wharton County (Unincorporated Areas).
Approximately 70 feet upstream of FM 640 | ◆113 |
Caney Creek:
Just upstream of Dam 1 | ◆101 |
Approximately 3,630 feet upstream of U.S. Highway 59 | ◆107 |
Colorado River:
Approximately 2.21 miles downstream of the confluence of Jones Creek | ◆67 |
Approximately 14.20 miles upstream of FM 960 | 138 |
Peach Creek:
Approximately 1,915 feet downstream of County Road 129 (Montgomery Road) | ◆91 | Wharton County (Unincorporated Areas).
Approximately 4.32 miles upstream of County Road 247 | ◆125 |
ADDRESSES
City of Wharton, Wharton County, Texas
Maps are available for inspection at City Hall, 120 East Caney, Wharton, Texas.
Unincorporated Areas of Wharton County, Texas
Maps are available for inspection at the Frank Shannon Building, 1017 North Alabama Road, Wharton, Texas.
North American Vertical Datum 1988.

(Catalog of Federal Domestic Assistance No. 83.100, “Flood Insurance.”)
David I. Maurstad,
Acting Director, Mitigation Division, Federal Emergency Management Agency, Department of Homeland Security.

[FR Doc. 06-2285 Filed 3-9-06; 8:45 am]

BILLING CODE 9110-12-P